DEPARTMENT OF ENERGY

Federal Energy Regulatory Commission

Combined Notice of Filings #1

Take notice that the Commission received the following electric rate filings:

Docket Numbers: ER20-1980-001.

Applicants: Cedar Springs Wind, LLC.

Description: Tariff Amendment: Cedar Springs Wind, LLC Amendment to MBR Application to be effective 8/3/2020.

Filed Date: 6/5/20.

Accession Number: 20200605-5232.

Comments Due: 5 p.m. ET 6/26/20.

Docket Numbers: ER20-2008-000.

Applicants: Public Service Company of New Mexico.

Description: § 205(d) Rate Filing: Limited Modifications to Formula Rate Template to be effective 6/1/2020.

Filed Date: 6/5/20.

Accession Number: 20200605-5223.

Comments Due: 5 p.m. ET 6/26/20.

Docket Numbers: ER20-2009-000.

Applicants: Tri-State Generation and Transmission Association, Inc.

Description: § 205(d) Rate Filing: Amendment to Formula Rate Template in Attachment M of OATT to be effective 7/15/2020.

Filed Date: 6/5/20.

Accession Number: 20200605-5231.

Comments Due: 5 p.m. ET 6/26/20.

Docket Numbers: ER20-2010-000.

Applicants: Horizon West Transmission, LLC.

Description: Baseline eTariff Filing: Horizon West Transmission, LLC Regulatory Asset Deferred Cost Filing to be effective 12/31/9998.

Filed Date: 6/8/20.

Accession Number: 20200608-5104.

Comments Due: 5 p.m. ET 6/29/20.

Docket Numbers: ER20-2011-000.

Applicants: New York Power Authority.

Description: Request for Temporary Waiver, et al of the New York Power Authority.

Filed Date: 6/8/20.

Accession Number: 20200608-5105.

Comments Due: 5 p.m. ET 6/15/20.

Docket Numbers: ER20-2012-000.

Applicants: Orbit Bloom Energy, LLC.

Description: Baseline eTariff Filing: Orbit Bloom Energy, LLC Application for MBR Authority to be effective 6/20/2020.

Filed Date: 6/8/20.

Accession Number: 20200608-5110.

Comments Due: 5 p.m. ET 6/29/20.

Docket Numbers: ER20-2013-000.

Applicants: PJM Interconnection, L.L.C.

Description: Tariff Cancellation: Notice of Cancellation of ISA No. 3608, Queue No. Y2-100 to be effective 6/1/2020.

Filed Date: 6/8/20.

Accession Number: 20200608-5135.

Comments Due: 5 p.m. ET 6/29/20.

Docket Numbers: ER20-2014-000.

Applicants: Rattlesnake Flat, LLC.

Description: Baseline eTariff Filing: Application for Market-Based Rate Authorization under Section 205 of the FPA to be effective 8/1/2020.

Filed Date: 6/8/20.

Accession Number: 20200608-5160.

Comments Due: 5 p.m. ET 6/29/20.

Take notice that the Commission received the following public utility holding company filings:

Docket Numbers: PH20-12-000.

Applicants: Nevada Gold Mines LLC, Nevada Gold Energy LLC.

Description: Nevada Gold Mines LLC, et al. submits FERC 65-A Updated Exemption Notification.

Filed Date: 6/8/20.

Accession Number: 20200608-5163.

Comments Due: 5 p.m. ET 6/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2020.
Nathaniel J. Davis, Sr.,
Deputy Secretary.

[FR Doc. 2020-12721 Filed 6-11-20; 8:45 am]

BILLING CODE 6717-01-P